DEPARTMENT OF THE INTERIOR

National Park Service

Petersburg National Battlefield Draft General Management Plan, Draft Environmental Impact Statement, Petersburg National Battlefield, Petersburg, VA

AGENCY: National Park Service, Interior.

ACTION: Notice of availability.

SUMMARY: Pursuant to the National Environmental Policy Act of 1969, 42 U.S.C. 4332(2)(C), the National Park Service announces the availability of Draft General Management Plan, Draft Environmental Impact Statement (Draft GMP/EIS), for Petersburg National Battlefield, Petersburg, Virginia. The General Management Plan is being prepared in compliance with 16 U.S.C. 1a-7(b), which requires the National Park Service to prepare a general management plan for the preservation and use of each unit of the national park system.

DATES: The National Park Service will accept comments that are submitted by the public on or before July 30, 2004. Four public meetings will be held in the communities surrounding the park (City of Petersburg, VA, City of Hopewell, VA, Prince George County, VA and Dinwiddie County, VA) around the mid-point of the 60-day public review period. The times and locations of these meetings will be announced in all local newspapers, sent to all addresses on the park's Draft GMP/EIS mailing list and posted on the park's Web site at http://www.nps.gov/pete.

ADDRESSES: Information will be available for public review and comment in the office of the Superintendent, Petersburg National Battlefield, 1539 Hickory Hill Road, Petersburg, VA 23803-4721 and via the Internet at http://www.nps.gov/pete. A public reading copy of the Draft GMP/EIS will be available for review at the following libraries:

Colonial Heights Public Library, 1000 Yacht Basin Drive, Colonial Heights, VA 23834.

Hopewell Public Library, Appomattox Regional Library, 245 E. Cawson St., Hopewell, VA 23860.

Petersburg Public Library, 137 S. Sycamore St., Petersburg, VA 23803.

FOR FURTHER INFORMATION CONTACT: Bob Kirby, Superintendent, Petersburg National Battlefield at (804) 732-3571 X105.

SUPPLEMENTARY INFORMATION: Petersburg National Battlefield does not currently have a General Management Plan. The park's existing Master Plan (1965) was primarily a facility development plan and all of its major recommendations have been completed. The GMP/EIS presents and analyzes four alternatives for preserving resources, enhancing interpretation, providing visitor services and working with partners. Three of these alternatives propose boundary expansion. The GMP/EIS responds to the park's mission and the challenges facing the park and adjacent communities today.

If you wish to comment, you may submit your comments by any one of several methods. You may mail comments to Superintendent, Petersburg National Battlefield, 1539 Hickory Hill Road, Petersburg, VA 23803-4721. You may also comment via the Internet http://www.nps.gov/pete (see the link) or via e-mail to pete_gmp@nps.gov. Please include your name and return address in your surface, Internet or e-mail message. Finally, you may hand-deliver comments to 1539 Hickory Hill Road, Petersburg, VA during regular business hours. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from individuals identifying themselves as representatives or officials of organizations or businesses, available for public inspection in their entirety.

Bob Kirby,
Superintendent, Petersburg National Battlefield, National Park Service.

[FR Doc. 04-12595 Filed 6-2-04; 8:45 am]

BILLING CODE 4312-52-P